DEPARTMENT OF THE INTERIOR

Bureau of Land Management

[A2407-014-004-065516; O2412-014-004-047181.1; LLHQ230000]

Opportunity To Comment on Changes to the Proposed Resource Management Plan Amendment for the Greater Sage-Grouse Rangewide Planning

AGENCY: Bureau of Land Management, Interior.

ACTION: Notice of significant change.

SUMMARY: The Bureau of Land Management (BLM) is soliciting comments on significant changes to the Proposed Resource Management Plan Amendment (RMPA) for Greater Sage-grouse Rangewide Planning released in November 2024. The environmental consequences of the proposed changes have been analyzed as part of the RMPA/environmental impact statement (EIS) process. Following consideration of any comments on these changes, the BLM will issue Records of Decision (ROD) for the Approved RMPAs for Idaho, Montana/Dakotas, Nevada/California, Utah, and Wyoming.

DATES: Written comments on the changes to the proposed plan amendment will be accepted until October 3, 2025.

ADDRESSES: The document identifying significant changes, the Proposed RMPA/Final EIS, and all associated documents are available on the BLM ePlanning project website at: https://eplanning.blm.gov/eplanning-ui/project/2016719/510.

You may submit comments by any of the following methods:

• e-planning: https://eplanning.blm.gov/eplanning-ui/project/2016719/510. The BLM strongly encourages members of the public to submit comments electronically if possible.

• Mail: BLM Anchorage District Office, Attn: Stephanie Rice, 4700 BLM Rd, Anchorage, AK 99507.

FOR FURTHER INFORMATION CONTACT: Stephanie Rice, telephone: (907) 308-9464; email: srice@blm.gov. Individuals in the United States who are deaf, deafblind, hard of hearing, or have a speech disability may dial 711 (TTY, TDD, or TeleBraille) to access telecommunications relay services for contacting Ms. Rice. Individuals outside the United States should use the relay services offered within their country to make international calls to the point-of-contact in the United States.

SUPPLEMENTARY INFORMATION: The Environmental Protection Agency (EPA) published the Notice of Availability (NOA) for the Draft RMPA and Draft EIS on March 15, 2024, which initiated a 90-day public comment period. Following issuance of the Proposed RMPA and Final EIS on November 15, 2024, the BLM completed a 30-day protest period for the Proposed RMPA and published a protest resolution report on January 10, 2025. The BLM completed a 60-day Governor's consistency review for BLM managed lands in the planning area for the states of California, Colorado, Idaho, Montana, Nevada, North Dakota, Oregon, South Dakota, and Wyoming, and issued Records of Decision and Approved RMPAs in January 2025 for Greater Sage-grouse Rangewide Planning in Oregon and Colorado. The governor's consistency review period is ongoing for Utah. In response to information received during the protest periods and Governors' consistency reviews, and based on additional policy discussions, the BLM has determined that it will make changes to the Proposed RMPAs for Idaho, Montana/Dakotas, Nevada/California, Utah, and Wyoming.

The BLM has determined that it will clarify and make changes to the adaptive management language in the Proposed RMPAs for Idaho, Montana/Dakotas, Nevada/California, Utah, and Wyoming to better align with state policies and programs to manage sage-grouse populations. The BLM has removed the designation for priority habitat management areas (PHMA) with limited exceptions as a distinct subset of PHMAs to improve consistency with state and local plans. All habitat management areas that were designated as PHMA with limited exceptions will primarily be designated as PHMA and will be subject to the management actions and direction for PHMA in the Proposed RMPAs for Idaho, Montana/Dakotas, Nevada/California, and Wyoming. The Nevada/California and Idaho Proposed RMPAs changed the seasonal habitat benchmark for perennial grass height during nesting/early brood rearing from a quantitative standard to a qualitative standard based on recent research and to account for habitat variability across the states. The habitat management area boundaries for the Utah Proposed RMPA will be updated to more closely align with the State of Utah Greater Sage-grouse Conservation Plan and minimize sage-grouse habitat management areas outside of the State of Utah's Sage-grouse Management Areas. The Nevada Proposed RMPA will change the allocation for major rights of way in general habitat management areas (GHMA) from avoidance to open to align more closely with how GHMA is managed in BLM California. This notice initiates a 30-day public comment period on these changes (43 CFR 1610.2(e)).

Before including your address, telephone number, email address, or other personal identifying information in your comment, be advised that your entire comment—including your personal identifying information—may be made publicly available at any time. While you can ask us in your comment to withhold your personal identifying information from public review, we cannot guarantee that we will be able to do so. Further information regarding the changes can be found at https://eplanning.blm.gov/eplanning-ui/project/2016719/510.

(Authority: 43 CFR 1610.2; 43 CFR 1610.5-1(b).)

William Groffy,
Acting Director, Bureau of Land Management.

[FR Doc. 2025-16886 Filed 9-2-25; 8:45 am]

BILLING CODE 4331-27-P